DEPARTMENT OF COMMERCE

National Oceanic and Atmospheric Administration

[I.D. 092500D]

Pacific Fishery Management Council; Public Meeting

AGENCY: National Marine Fisheries Service (NMFS), National Oceanic and Atmospheric Administration (NOAA), Commerce.

ACTION: Notice of public meeting.

SUMMARY: The Pacific Fishery Management Council's (Council) Ad-Hoc Allocation Committee will hold a meeting which is open to the public.

DATES: The meeting will begin on Monday, October 23, 2000, at 10 a.m., and may go into the evening until business for the day is completed. The meeting will reconvene at 8 a.m. on Tuesday, October 24, and will adjourn at approximately 5 p.m.

ADDRESSES: The meeting will be held at the Doubletree Hotel - Downtown Portland, 310 SW Lincoln, Portland, OR; telephone: (503) 221-0450.

Council address: Pacific Fishery Management Council, 2130 SW Fifth Avenue, Suite 224, Portland, OR 97201.

FOR FURTHER INFORMATION CONTACT: Jim Glock, Fishery Management Coordinator, telephone: (503) 326-6352.

SUPPLEMENTARY INFORMATION: The purpose of the meeting is to develop recommendations for allocations and other management measures involved in rebuilding plans for canary rockfish, cowcod and other overfished species. The committee will review the current catch levels of lingcod, bocaccio and canary rockfish and may propose inseason adjustments; review proposed 2001 harvest levels for all groundfish species; review draft rebuilding plans for canary rockfish and cowcod. The committee will review management options for 2001, preliminary impact analysis and results of stakeholder meetings; develop recommendations for 2001 management and inseason management adjustments for 2000; and will provide direction to Council staff, Groundfish Management Team, Groundfish Advisory Subpanel, and other Council entities as needed. Committee recommendations will be presented to the Council at its October-November meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

The meeting is physically accessible to people with disabilities. Requests for sign language interpretation or other auxiliary aids should be directed to Ms. Carolyn Porter at (503) 326-6352 at least 5 days prior to the meeting date.

Dated: September 25, 2000.
Richard W. Surdi,
Acting Director, Office of Sustainable Fisheries, National Marine Fisheries Service.

[FR Doc. 00-25038 Filed 9-28-00; 8:45 am]

BILLING CODE 3510-22-S